DEPARTMENT OF HEALTH AND HUMAN SERVICES

Health Resources and Services Administration

[CFDA Number 93.224; HRSA-05-024]

Fiscal Year 2005 Competitive Application Cycle for Service Area; Competition for the Consolidated Health Center Program (CHCP)

AGENCY: Health Resources and Services Administration, HHS.

ACTION: Notice of availability of funds.

SUMMARY: The Health Resources and Services Administration (HRSA) announces that approximately $355,000,000 is available in fiscal year (FY) 2005 funds to promote the continued operation of community-based primary health care service systems in medically underserved areas for medically underserved populations. It is expected that each application submitted to serve one of these areas will present a clear focus on maintaining access to care and reducing health disparities identified in the target population.

Potential applicants must obtain and respond to the FY 2005 Service Area Competition guidance in order to apply for funding. This announcement does not contain sufficient information in itself to use for developing an application.

Authorizing Legislation: Section 330 of the Public Health Service Act, as amended (42 U.S.C. 254b).

DATES: The intended timelines for application submission are as follows:

Project period ending: | Application deadline
October 31, 2004 | Aug. 16, 2004.
November 30, 2004 | Aug. 16, 2004.
January 31, 2005 | Sept. 1, 2004.
February 28, 2005 | Sept. 1, 2004.
March 31, 2005 | Oct. 25, 2004.
May 31, 2005 | Jan. 3, 2005.
June 30, 2005 | Jan. 3, 2005.
August 31, 2005 | Jan. 3, 2005.

For FY 2005, applications received or postmarked by August 16, 2004, will be reviewed with funding decision announced on or about November 1, 2004. Applications received or postmarked by September 1, 2004, will be reviewed with funding decision announced on or about February 1, 2005. Applications received or postmarked by October 25, 2004, will be reviewed with funding decision announced on or about April 1, 2005. Applications received or postmarked by January 3, 2005, will be reviewed with funding decision announced on or about June 1, 2005.

Applications will be considered as meeting the deadline if they are: (1) Received on or before the established date and received in time for the Independent Committee Review; or (2) postmarked or E marked on or before the deadline date given in the Federal Register Notice. Late applications will be returned to the applicant. Applicants should obtain a legibly U.S. Postal Service dated postmark or a legible date receipt from a commercial carrier. Private metered postmarks shall not be acceptable as proof of timely mailing. Applications sent to any address other than that specified below are subject to being returned.

Application Requests: To receive a complete application kit (i.e., application instructions, necessary forms, and application review criteria), contact the HRSA Grants Application Center at: The Legin Group, Inc., The HRSA Grants Application Center, Attn: Service Area Competition, Program Announcement No: HRSA 05-024, CFDA No. 93.224, 901 Russell Avenue, Suite 450, Gaithersburg, MD 20879, Telephone: 1-877-477-2123, Fax: 1-877-477-2345, E-mail: hrsagac@hrsa.gov.

When contacting the HRSA Grants Application Center (GAC), please use the following program announcement when requesting application materials: HRSA 05-024.

Eligible Applicants: Applicants are limited to currently funded Section 330 grantees whose project periods expire during fiscal year 2005 and public and private non-profit organizations, including faith-based and community based organizations, proposing to serve the same areas and populations being served by these existing centers. Listed below are the service areas with project periods that expire during fiscal year 2005.

Community/Migrant Health Centers, Health Care for the Homeless, Public Housing Primary Care, and School Based Health Centers

Organizations interested in these competitive opportunities are encouraged to contact the listed program officials for more information.

Contact: Jack Egan 301-594-4339.

City | State | Expiration date
Hyannis | MA | 10/31/2004
Portsmouth | NH | 10/31/2004
Pascoag | RI | 10/31/2004
Newark | NJ | 10/31/2004
St. George | WV | 10/31/2004
Harrisville | WV | 10/31/2004
New York | NY | 11/30/2004
White Plains | NY | 11/30/2004
Washington | DC | 11/30/2004
Camden-on-Gauley | WV | 11/30/2004
Hartford | CT | 12/31/2004
Roxbury | MA | 12/31/2004
Lubec | ME | 12/31/2004
Brockport | NY | 12/31/2004
Glens Falls | NY | 12/31/2004
Buffalo | NY | 12/31/2004
Arrington | VA | 12/31/2004
Richmond | VA | 12/31/2004
Bridgeport | CT | 01/31/2005
Provincetown | MA | 01/31/2005
Turner Falls | MA | 01/31/2005
Bronx | NY | 01/31/2005
Mayaguez | PR | 01/31/2005
Chester | PA | 01/31/2005
Saltville | VA | 01/31/2005
Fairmont | WV | 01/31/2005
Gary | WV | 01/31/2005
Spencer | WV | 01/31/2005
Waterbury | CT | 02/28/2005
Asbury Park | NJ | 02/28/2005
Egg Harbor | NJ | 02/28/2005
New York | NY | 02/28/2005
Toa Alto | PR | 02/28/2005
Hagerstown | MD | 02/28/2005
Pittsburgh | PA | 02/28/2005
Franklin | WV | 02/28/2005
New Haven | CT | 03/31/2005
New Canton | VA | 03/31/2005
Beckley | WV | 03/31/2005
Worcester | MA | 03/31/2005
Mattapan | MA | 03/31/2005
Patten | ME | 03/31/2005
Harrington | ME | 03/31/2005
Brooklyn | NY | 03/31/2005
San Juan | PR | 03/31/2005
Dover | DE | 03/31/2005
Harrisburg | PA | 03/31/2005
Coalport | PA | 03/31/2005
Boston | MA | 05/31/2005
Worthington | MA | 05/31/2005
Worcester | MA | 05/31/2005
Quincy | MA | 05/31/2005
Lawrence | MA | 05/31/2005
Schenectady | NY | 05/31/2005
Philadelphia | PA | 05/31/2005
Onancock | VA | 05/31/2005
Dungannon | VA | 05/31/2005
Laurel Fork | VA | 05/31/2005
Burlington | VT | 06/30/2005
Arroyo | PR | 06/30/2005
Wilmington | DE | 06/30/2005
Baltimore | MD | 06/30/2005
Brandywine | MD | 06/30/2005
Portsmouth | VA | 06/30/2005
Man | WV | 06/30/2005

Contact: Jerri Regan, 301-594-4283.

City | State | Expiration date
Port St. Joe | FL | 10/31/2004
Talbot | TN | 10/31/2004
Pittsburgh | KS | 10/31/2004
Mantachie | MS | 11/30/2004
Tylertown | MS | 11/30/2004
Dade City | FL | 11/30/2004
Vancebury | KY | 11/30/2004
Boone | NC | 11/30/2004
Ft. Myers | FL | 12/31/2004
W. Palm Beach | FL | 12/31/2004
Junction City | KS | 12/31/2004
Cape Girardeau | MO | 12/31/2004
Montgomery | AL | 01/31/2005
Trenton | GA | 01/31/2005
Newport | KY | 01/31/2005
Brandon | MS | 01/31/2005
Liberty | MS | 01/31/2005
Clairfield | TN | 01/31/2005
Des Moines | IA | 01/31/2005
St. Louis | MO | 01/31/2005
Jackson | MS | 02/28/2005
Washington | NC | 02/28/2005
Jackson | NC | 02/28/2005
Sumter | SC | 02/28/2005
Columbus | NE | 02/28/2005
Tuskegee | AL | 03/31/2005
Troy | AL | 03/31/2005
Sumterville | FL | 03/31/2005
W. Palm Beach | FL | 03/31/2005
Whitesburg | KY | 03/31/2005
Meridian | MS | 03/31/2005
Hendersonville | NC | 03/31/2005
Raleigh | NC | 03/31/2005
Charlotte | NC | 03/31/2005
Conway | SC | 03/31/2005
Maynardville | TN | 03/31/2005
New Madrid | MO | 03/31/2005
Selma | AL | 05/31/2005
Mobile | AL | 05/31/2005
Atlanta | GA | 05/31/2005
Canton | MS | 05/31/2005
Port Gibson | MS | 05/31/2005
Shubuta | MS | 05/31/2005
Durham | NC | 05/31/2005
Greenwood | SC | 05/31/2005
Des Moines | IA | 05/31/2005
Ellington | MO | 05/31/2005
Wrightsville | GA | 06/30/2005
Greenville | KY | 06/30/2005
Bolivar | TN | 06/30/2005
Shawnee | KS | 06/30/2005

Contact: Lisa Tonrey, 301-594-1327.

City | State | Expiration date
Battle Creek | MI | 10/31/2004
Bismarck | ND | 10/31/2004
Cheyenne | WY | 10/31/2004
Portland | OR | 10/31/2004
Seattle | WA | 10/31/2004
Toledo | OH | 11/30/2004
Akron | OH | 11/30/2004
Chicago | IL | 11/30/2004
Anchorage | AK | 11/30/2004
Chicago | IL | 12/31/2004
E. St. Louis | IL | 12/31/2004
Cleveland | OH | 12/31/2004
Cincinnati | OH (2) | 12/31/2004
Lisbon | OH | 12/31/2004
Lamar | CO | 12/31/2004
Salt Lake City | UT | 12/31/2004
Anna | IL | 01/31/2005
Marquette | MI | 01/31/2005
Kalamazoo | MI | 01/31/2005
Moorehead | MN | 01/31/2005
Norwood | CO | 01/31/2005
Butte | MT | 01/31/2005
Anderson | IN | 02/28/2005
Muskegon | MI | 02/28/2005
Jackson | MI | 02/28/2005
Duluth | MN | 02/28/2005
Minneapolis | MN | 02/28/2005
Chinook | MT | 02/28/2005
Pierre | SD | 02/28/2005
Saginaw | MI | 03/31/2005
Traverse City | MI | 03/31/2005
Sterling | MI | 03/31/2005
Temperance | MI | 03/31/2005
Freemont | OH | 03/31/2005
Wild Rose | WI | 03/31/2005
Milwaukee | WI | 03/31/2005
Greeley | CO | 03/31/2005
Isabel | SD | 03/31/2005
Casper | WY | 03/31/2005
Cornelius | OR | 03/31/2005
Wenatchee | WA | 03/31/2005
Seattle | WA | 03/31/2005
Kent | WA | 03/31/2005
Chicago | IL | 05/31/2005
Lincoln | MI | 05/31/2005
Grand Marais | MN | 05/31/2005
Cook | MN | 05/31/2005
Ft. Lupton | CO | 05/31/2005
Glenns Ferry | ID | 05/31/2005
Medford | OR | 05/31/2005
Lafayette | IN | 06/30/2005
Ft. Wayne | IN | 06/30/2005
Battle Creek | MI | 06/30/2005
Minneapolis | MN | 06/30/2005
Cashton | WI | 06/30/2005
Boulder | CO | 06/30/2005
Bicknell | UT | 06/30/2005
Sitka | AK | 06/30/2005
Fairbanks | AK | 06/30/2005
Pocatello | ID | 06/30/2005
Plummer | ID | 06/30/2005
Cave Junction | OR | 06/30/2005
Tillamook | OR | 06/30/2005

Contact: Rashad Al Mahdaoui, 301-594-4335.

City | State | Expiration date
Hulbert | OK | 10/31/2004
Houston | TX | 10/31/2004
Prescott | AZ | 10/31/2004
Sacramento | CA | 10/31/2004
San Mateo | CA | 10/31/2004
Humboldt | CA | 10/31/2004
Los Angeles | CA | 10/31/2004
Gonzales | TX | 11/30/2004
Phoenix | AZ | 11/30/2004
San Fernando | CA | 11/30/2004
Madera | CA | 11/30/2004
San Mateo | CA | 11/30/2004
Los Angeles | CA | 11/30/2004
Augusta | AR | 12/31/2004
Hildalgo | TX | 12/31/2004
Houston | TX | 12/31/2004
Marana | AZ | 12/31/2004
San Francisco | CA | 12/31/2004
Union City | CA | 12/31/2004
Bloomington | CA | 12/31/2004
Pohnpei | FM | 12/31/2004
Greenville | TX | 01/31/2005
San Antonio | TX | 01/31/2005
Pleasanton | TX | 01/31/2005
San Francisco | CA | 01/31/2005
Porterville | CA | 01/31/2005
Luling | LA | 02/28/2005
Ft. Sumner | NM | 02/28/2005
River Ridge | LA | 02/28/2005
Los Angeles | CA (2) | 02/28/2005
Ft. Bragg | CA | 02/28/2005
Torrance | CA | 02/28/2005
Honokaa | HI | 02/28/2005
La Marque | TX | 03/31/2005
Port Arthur | TX | 03/31/2005
Laredo | TX | 03/31/2005
Cotulla | TX | 03/31/2005
San Antonio | TX | 03/31/2005
San Jose | CA | 03/31/2005
San Francisco | CA | 03/31/2005
Oakland | CA | 03/31/2005
Agana | GU | 03/31/2005
Honolulu | HI | 03/31/2005
New Iberia | LA | 05/31/2005
Konawa | OK | 05/31/2005
Levelland | TX | 05/31/2005
Olivehurst | CA | 05/31/2005
Susanville | CA | 05/31/2005
El Rito | NM | 06/30/2005
Waco | TX | 06/30/2005
San Joaquin | CA | 06/30/2005
Kahului | HI | 06/30/2005
Reno | NV | 06/30/2005
Elfrido | AZ | 06/30/2005
Monroe | LA | 08/31/2005
San Diego | CA | 08/31/2005

Application Review and Funding Criteria: The following Review Criteria will be used by the Independent Review Committee (IRC) to evaluate the merits of the proposed plan presented in each SAC application.

The seven (7) Review Criteria for the SAC funding opportunity and maximum points awarded

Criterion 1: Need (10 Points)

1. Applicant describes the service area(s)/community(ies) being served, including:

(a) The service area population, i.e. urban, rural, sparsely populated[7 people or less per square mile].

(b) The counties, census tracts, minor civil divisions, schools/school districts, etc., (as appropriate) in the service area.

(c) Any Medically Underserved Areas (MUAs), Medically Underserved Populations (MUPs), High Impact Areas, and Health Professional Shortage Areas (HPSAs), as applicable.

2. Applicant describes the target population(s) (e.g., general community members, migrant/seasonal agricultural workers, residents of public housing, homeless persons, low-income school children, etc.) within the service area/community, including:

(a) The unserved and underserved populations in the community, including any other populations that are in need of access to primary health care (e.g., elderly population, immigrant population, migrant/seasonal farmworkers, homeless populations, residents of public housing, low-income school children/adolescents and their families, etc.).

(b) The unique demographic characteristics of the target population (e.g., age, gender, insurance status, unemployment, poverty level, ethnicity/culture, education, etc.).

(c) The relevant access to care and health status indicators of the target population/community.

3. Applicant identifies how many people are currently being served by the organization. Applicant also discusses how many will be served and the number of projected encounters that will be generated through the proposed project. This information should be consistent with the information presented on Form 1-A: General Information Worksheet.

4. Applicant identifies and describes the most significant barriers to care, gaps in services, significant health disparities and the major health care problems in the community. This should include a description of:

(a) Any culturally specific characteristics that impact access to and the delivery of health care services.

(b) Any relevant geographic barriers to care and other factors impacting access to care.

(c) Any major and/or unique health care needs of the target population(s). (The Health Care and Business Plans should present goals and measurable, time-framed objectives to address the identified needs.)

5. Applicant demonstrates and understanding of the most common causes of mortality, and the incidence and prevalence of chronic and infectious diseases in the target population.

6. Applicant describes any significant changes over the past year in the service area or population being served (i.e., influx of refugee population, or closing of local factory, etc.) impacting on the need for services. This should include a description of any significant changes for each target population type served (i.e., CHC, MHC, HCH, PHPC, and/or SBHC).

7. Applicant identifies any health care providers of care (including all other FQHCs and section 330 grantees), resources and/or services of other public and private organizations within the proposed service area that are providing care to the target population(s). The applicant should also evaluate the effectiveness of available resources and/or services in providing care to the target community/population.

8. Applicant demonstrates a thorough understanding of the health care environment including:

(a) The impact in the State of the implementation of SCHIP, 1115 and 1915(b) waivers, State Medicaid prospective payment system; Medicaid managed care, State laws, current and proposed welfare reform initiatives, etc.;

(b) The impact that these changes have had on the access to services or demand for services among the target population(s), on the ability to respond to patient demand, and/or on the fiscal stability of the organization;

In addition to the above, applicants requesting funding for one or more types of health centers authorized under the section 330 program, should also address the following:

For MHC Applicants

(a) Applicant describes the major agricultural environment, the crops and growing seasons, including a discussion of any impact on the demand for services among migrant and seasonal farmworkers (e.g., the need for hand labor or the number of temporary workers, etc.).

For HCH Applicants

(a) Applicant describes the availability of housing in the community and the impact of this and other factors on the demand for services among homeless individuals and families.

For PHPC Applicants

(a) Applicant describes any recent changes in the availability of public housing to serve area residents and the impact on the demand for services among residents in the targeted public house communities served.

For SBHC Applicants

(a) Applicant describes any changes to the number or type of students enrolled in the targeted schools and the impact on the demand for services in these locations.

Criterion 2: Response (20 Points)

1. Applicant describes the proposed service delivery model (e.g., freestanding, single or multi-site, migrant voucher, mobile site, school-based location, or combination), and locations/settings where services are provided. Applicant should include a discussion of how services will be provided at each proposed service site (e.g. via contract, referral system, etc.) and access problems the model would address and resolve.

2. Applicant demonstrates that the proposed model is most appropriate and responsive to the identified community health care needs (i.e., the service delivery plan addresses the priority health and social problems of the target population(s) for all the major life cycles).

3. Applicant demonstrates that the required primary, preventive and supplemental health services (e.g., enabling services, eligibility assistance, outreach, and transportation) will be available and accessible to all lifecycles of the target population either directly on-site or through established arrangements without regard to ability to pay.

4. Applicant demonstrates a clear and defined plan for providing oral health care that assures availability and accessibility to the target population either directly on-site or through established arrangements (e.g., contract, referral, etc.) without regard to ability to pay.

5. Applicant demonstrates a clear and defined plan for providing mental health care and substance abuse services that assures availability and accessibility to the target population either directly on-site or through established arrangements (e.g., contract, referral, etc.) without regard to ability to pay.

6. Applicant addresses the chronic disease incidences within the target population, and participation in a formal disease/care management and system improvement program, such as the BPHC-supported or sponsored Health Disparities Collaborative.

7. Applicant describes and demonstrates that the services will be culturally and linguistically appropriate.

8. Applicant demonstrates comprehensiveness and continuity of care, including a discussion of the following:

(a) Hours of operation that assure services are available and accessible at times meeting the needs of the population including evenings and weekends as appropriate;

(b) Mechanism to assure professional coverage during the hours when the health center is closed;

(c) Performance improvement system that includes eliminating disparities in health outcomes, reducing patient risk, improving patient satisfaction, credentialing and privileging, incident reporting, etc., that integrates planning, management, leadership and governance into the evaluation processes of program effectiveness; and

(d) Case management system that demonstrates care coordination at all levels of health care, including arrangements for referrals, hospital admissions discharge planning and patient tracking.

9. Applicant demonstrates collaboration and coordination of services with other providers including other existing FQHCs and section 330 grantees in the area (e.g. contracts, MOUs, letters of support, etc.)

10. Applicant discusses the extent to which project activities are coordinated and integrated with the activities of other federally-funded, State and local health services delivery projects and programs serving the same population(s). This should include a description of both formal and informal collaborative and partner arrangements, which assure a seamless continuum of care and access to appropriate specialty care for the target population(s). Applicant should have provided copies of relevant contracts, MOUs, letters of commitment or investment (e.g., from the school board, local hospital, public health department, etc.), as part of the application attachments.

11. Applicant demonstrates that the proposed clinical staffing pattern (e.g., number and mix of primary care physicians and other providers and clinical support staff, language and cultural appropriateness, etc.) is appropriate for the level and mix of services to be provided.

12. Applicant describes a detailed plan for recruiting and retaining appropriate health care providers as appropriate for achieving the proposed staffing pattern.

In addition to the above, applicants requesting funding for one or more types of health centers authorized under the section 330 program, should also address the following:

For MHC Applicants

(a) Applicant describes the response to health care needs associated with the environmental and/or occupational hazards to which farmworkers and their families are exposed, and how these needs will be met.

(b) Applicant describes the setting(s) in which health and enabling services will be provided, i.e., special arrangements to provide services at camps and/or farms; use of mobile teams and or vans; extended hours/weekend services; etc.

(b) Applicant describes an outreach program that will increase access to primary and preventive health care services and how the outreach program is integrated into the primary care delivery system.

For HCH Applicants

(a) Applicant describes the arrangements for providing required substance abuse services.

(b) Applicant demonstrates the mechanism for informing homeless people of the availability of services and the features of its outreach program.

(c) Applicant describes the coordination of services with providers of housing, job training, and other essential supports for persons who are homeless. The applicant must also describe its relationship with homeless coalitions, advocacy groups, and the existing continuum of care organizations in their community.

(d) Applicant describes the nature and scope of its expanded case management services.

For PHPC Applicants

(a) Applicant provides documentation that the location of the service site(s) is (are) in or directly adjacent to the public housing community(ies) being targeted.

(b) Applicant provides a formal agreement with the local public housing authority that demonstrates access to on-site space, where applicable.(c)Applicant describes how residents will be involved in the administration of the program.

For SBHC Applicants

(a) Applicant provides evidence of on-site care through established arrangements with the school staff and providers (e.g., school nurse, school psychologist, etc.) when applicable.

(b) Applicant provides documentation of access to health care during the summer and other times when the school is closed (e.g. vacations, weekends).

(c) Applicant provides written documentation of an agreement with the school system to permit access to the school facility for the SBHC should be included.

Criterion 3: Evaluative Measures (5 Points)

1. Applicant demonstrates the ability to monitor the quality and outcomes of the services provided (e.g., adequate management information systems, established quality assurance program, patient feedback).

2. Applicant demonstrates the ability to evaluate the quality and outcomes of the services provided including an evaluation plan that includes specific time framed, measurable outcomes and clear methods/action steps.

3. Applicant describes the mechanism(s) by which the organization identifies and responds to the community and its needs (e.g., patient surveys, needs assessments).

4. Applicant demonstrates a performance improvement system that includes eliminating disparities in health outcomes, reducing patient risk, improving patient satisfaction, credentialing and privileging, incident reporting, etc., that integrates planning, management, leadership and governance into the evaluation processes of program effectiveness.

5. Applicant demonstrates through the health care plan that both goals and time-framed, measurable objectives are in place that address the identified needs and disparities of the target population.

6. Applicant demonstrates through the Business Plan that operational issues will be addressed and that the administrative, financial and clinical systems are appropriate for the proposed project.

7. Applicant discusses any issues identified in the Notice of Grant Award (NGA), Primary Care Effectiveness Review (PCER), Office of Performance Review (OPR) or Joint Commission on Accreditation of Healthcare Organizations (JCAHO) reviews, pre-application guidance letter (PAGL) or other findings, as applicable. This should include a discussion of the organization's response to the listed findings.

Criterion 4: Impact (15 Points)

1. Applicant describes the organization's role and relationships within the community including: (a) How the organization fits into the community and its service delivery network; (b) The role of clients, community, staff and Board of Directors in establishing and evaluating the organization's objectives and priorities; and (c) Partnerships and collaborations with other providers in the community.

2. Applicant demonstrates and provides evidence of the community's support for the organization. Letters of support and MOUs and/or a list of additional letters of commitment, MOUs, etc. on file at the health center, as appropriate should be included in the Appendices.

3. Applicant discusses the extent to which the proposed health center will address the priority health care needs, improve access to primary health care services and reduce health disparities for the medically underserved in the community/target population(s).

4. Applicant describes how the proposed project correlates to the goals and objectives of the Healthy People 2010 initiative, specifically to (1) increase the quality and years of a healthy life; and (2) eliminate our country's health disparities.

5. Applicant describes the goals and objectives of the existing project (i.e. existing approved “Scope of Project” for existing grantees). This should include a discussion of outcomes, both positive and negative, or unanticipated issues that may be important, and the organization's response.

6. Applicant discusses the short- and long-term strategic planning process including any proposed plans for future activities such as plans to expand into new areas, and how such activities will be integrated into the current service delivery system.

In addition to the above, applicants requesting funding for one or more types of health centers authorized under the section 330 program, should also address the following:

For MHC Applicants

(a) Applicant discusses any network of care for migrant health. This should include a discussion of linkages (e.g., MOAs, MOUs, contracts, etc.) with other migrant health organizations such as Migrant Education, Migrant Head Start, and Migrant WIC programs. Copies of appropriate signed agreements, contracts, etc should have been submitted in the Appendix.

For HCH Applicants

(a) Applicant documents the relationship with housing providers and other local organizations that provide services and support to homeless persons.(b) Applicant documents the degree of participation in community-wide planning on behalf of homeless persons through participation with the local continuum of care or other entities.

For PHPC Applicants

(a) Applicant documents the relationship with the local public housing authority and with public housing resident groups within the community.

Criterion 5: Resources/Capabilities (30 Points)

1. Applicant discusses why it is the appropriate entity to receive funding (e.g. staff skills, capacity, clinical outcomes, cultural and linguistic competence, evaluation capabilities, etc.).

2. Applicant discusses the history and status as a designated Federally Qualified Health Center, where applicable, including eligibility for malpractice coverage under the Federal Tort Claims Act, and years of uninterrupted services to the target area and populations.

3. Applicant demonstrates how the structure, management system and lines of authority are appropriate and adequate for the size and scope of the proposed project.

4. Applicant demonstrates that the organization structure (including sponsorship or corporate affiliation, etc.) is in compliance with 330 requirements and appropriate for the proposed project.

5. Applicant demonstrates that the proposed staffing plan is appropriate and adequate given the scope of the proposed project.

6. Applicant demonstrates that the key management staff (e.g. CEO, CFO, CMO) of the health center are appropriate and that the process for hiring key management staff is in accordance with Health Center Program Expectations. This should include a description of any specific leadership for each health center type (i.e. CHC, MHC, HCH, PHPC or SBHC) as applicable.

7. Applicant describes any key management staff changes during the last year, and/or any long-term vacancy, as applicable.

8. Applicant describes the current facility(ies), and demonstrates that it is appropriate for the proposed service delivery plan.

9. Applicant identifies unique characteristics and significant accomplishments of the organization.

10. Applicant describes prior experiences and expertise in:

(a) Working with the target population(s);

(b) Addressing the identified health care needs; and

(c) Developing and implementing appropriate systems and services to meet the needs of the community.

11. Applicant identifies any section 330 funding received over the last five years, including participation in any special initiatives (e.g., integrated service network, dental pilot, etc.) and urgent supplemental funds and/or funds received from other related Federal programs such as Healthy Start, Housing and Urban Development Homeless resources, etc.

12. Applicant demonstrates financial viability and accounting and internal controls in accord with sound financial management procedures that are appropriate to the size of the organization, funding requirements, and staff skills available.

Criterion 6: Support Requested (10 Points)

1. Applicant demonstrates that the budget presentation (an annualized budget for each 12 month period for which funding is requested of the new project period) is appropriate and reasonable in terms of:

(a) The level of requested Federal grant funds versus total budget for each year;

(b) The total resources required to achieve the goals and objectives of the applicant's proposed service delivery plan (i.e., total project budget);

(c) The maximization of non-grant revenue relative to the proposed plan and other Federal/State/local/in-kind resources applied to the project;

(d) The projected patient income is reasonable based on the patient mix and number of projected users and encounters;

(e) The number of proposed users and encounters;

(f) The total cost per user and encounter;

(g) The total Federal section 330 grant dollars per user.

2. Applicant demonstrates that the Federal grant funds requested are being used to leverage other sources of funding.

3. Applicant demonstrates that the business plan goals and objectives are targeted and demonstrate appropriate financial planning in the development of the proposal and for the long-term success of the project.

4. Applicant describes how the proposed health center is a cost-effective approach to meeting the primary care needs of the target population given the health care needs of the target population and the level of health care resources currently available in the community.

Criteria 7: Governance (10 Points)

Applicants must provide a copy of the signed bylaws demonstrating compliance with and reflecting all functions and responsibilities cited in section 330, as appropriate.

1. Applicant describes the structure of the Board in terms of size, expertise, and representativeness of the communities/populations served (e.g. appropriate racial/ethnic, economic status, and gender representation, 51% consumer majority, etc.).

2. Applicant discusses measures for assuring that the Board is compliant with appropriate and applicable regulations and BPHC guidance.

3. Applicant discusses the mechanism of continued Board training, including training new governing board members in appropriate responsibilities and requirements of the Federal grant.

4. Applicant describes the provision for ensuring monthly meetings of the Board or an alternate mechanism if a waiver is requested.

5. Applicant describes the mechanism for quality assurance, including a mechanism to evaluate Board effectiveness.

6. Applicant demonstrates that the Board has appropriate oversight responsibilities, specifically the responsibility to:

(a) Directly employ, select/dismiss and evaluate the CEO/Executive Director;

(b) Adopt policies and procedures for personnel and financial management;

(c) Establish center priorities and activities;

(d) Approve annual budget; and

(e) Schedule hours of operation.

In addition to the above, applicants requesting funding for one or more types of health centers authorized under the section 330 program, should also address the following:

HCH, PHPC, and MHC Applicants

(a) All HCH, PHPC and/or MHC applicants that are also requesting CHC and/or SBHC funding must demonstrate that at least one member of its Board is representative of the special population.

(b) Applicant clearly identifies a request for a waiver of governance requirements, if applicable.

Estimated Amount of Available Funds: Up to $355,000,000 will be available in fiscal year 2005 for this program.

Estimated Project Period: Up to 5 Years.

Estimated Number of Awards: It is estimated that 277 awards will be issued.

For Further Information Contact: Preeti Kanodia, Public Health Analyst, Division of Health Center Development, Bureau of Primary Health Care, HRSA,4350 East-West Highway, 3rd Floor, Bethesda, MD 20814, Telephone: 301.594.4300, Fax: 301.480.7225.

Executive Order 12372

This program has been determined to be subject to provisions of Executive Order 12372, as implemented by 45 CFR Part 100. Executive Order 12372 allows States the option of setting up a system for reviewing applications from within their States for assistance under certain Federal programs. Application kits made available under this guidance will contain a listing of States that have chosen to set up such a review system, and will provide a State Single Point of Contact (SPOC) for the review. Information on States affected by this program and State Points of Contact may also be obtained from the Grants Management Officer listed in the AGENCY Contact(s) section, as well as from the following Web site: http://www.whitehouse.gov/omb/grants/spoc.html. All applicants other than federally recognized Native American Tribal Groups should contact their SPOC as early as possible to alert them to the prospective applications and receive any necessary instructions on the State process used under this Executive Order. Letters from the SPOC in response to Executive Order 12372 are due sixty days after the application due date.

Dated: July 2, 2004.
Stephen R. Smith,
Senior Advisor to the Administrator.

[FR Doc. 04-15605 Filed 7-7-04; 2:44 pm]

BILLING CODE 4165-15-U